DEPARTMENT OF AGRICULTURE

Animal and Plant Health Inspection Service

[Docket No. 02-065-1]

Availability of an Environmental Assessment and Finding of No Significant Impact

AGENCY: Animal and Plant Health Inspection Service, USDA.

ACTION: Notice of availability.

SUMMARY: We are advising the public that an environmental assessment and finding of no significant impact have been prepared by the Animal and Plant Health Inspection Service relative to the control of Siam weed, Chromolaena odorata, in Guam and the Northern Mariana Islands. The environmental assessment considers the effects of, and alternatives to, the release of a nonindigenous fly, Cecidochares (Procecicidochares) connexa, into the environment for use as a biological control agent to reduce the severity of Siam weed. The environmental assessment provides a basis for our conclusion that the issuance of a permit for the field release of Cecidochares (Procecicidochares) connexa into the environment will not have a significant impact on the quality of the human environment. Based on its finding of no significant impact, the Animal and Plant Health Inspection Service has determined that an environmental impact statement need not be prepared.

ADDRESSES: Copies of the environmental assessment and finding of no significant impact are available for public inspection in our reading room. The reading room is located in room 1141 of the USDA South Building, 14th Street and Independence Avenue, SW., Washington, DC. Normal reading room hours are 8 a.m. to 4:30 p.m., Monday through Friday, except holidays. To be sure someone is there to help you, please call (202) 690-2817 before coming.

FOR FURTHER INFORMATION CONTACT: Dr. Tracy A. Horner, Entomologist, Biological and Technical Services, PPQ, APHIS, 4700 River Road Unit 133, Riverdale, MD 20737-1228; (301) 734-5213.

SUPPLEMENTARY INFORMATION:

Background

Siam weed, Chromolaena odorata, is a perennial shrub native to South America and Central America where it is controlled by competing plants and natural enemies. However, Siam weed has become an invasive weed in much of tropical Asia, Africa, and the western Pacific including Guam and the Northern Mariana Islands. It becomes the dominant vegetation in abandoned fields, vacant lands, disturbed forests, and roadsides, suppressing native vegetation and preventing the natural reseeding of forest trees. In addition, it interferes with the cultivation of crops such as rubber, oil palm, coffee, cocoa, teak, cashew, and coconut. During the dry season, Siam weed can become a fire hazard. The tangled thickets of this weed interfere with wildlife movement in forests, and the leaves of Siam weed are toxic to livestock.

Chemical, mechanical, and biological control methods are available to control Siam weed, but these methods have limitations. For instance, chemical and mechanical control methods are expensive, and chemical control method poses some environmental concerns. Of the four insects released in Guam for the biological control of Siam weed, only one insect has become established, with limited effectiveness. The effectiveness of the tiger moth, Pareuchaetes pseudoinsulata, has been limited to areas of dense thickets. A nonindigenous fly, Cecidochares (Procecidochares) connexa Macquart (Diptera: Tephritidae), would potentially complement the tiger moth in the control of Siam weed because C. connexa has the ability to locate, and become established within, patchy distributions of Siam weed.

The Animal and Plant Health Inspection Service (APHIS) received a permit application from the University of Guam to release C. connexa into the environment to reduce the severity of Siam weed infestations in Guam and the Northern Mariana Islands. APHIS prepared an environmental assessment entitled “Field Release of Cecidochares (Procecidochares) connexa Macquart (Diptera: Tephritidae), a non-indigenous, gall-making fly for control of Siam weed, Chromolaena odorata (L.) King and Robinson (Asteraceae) in Guam and the Northern Mariana Islands” (February 2002). The notice of availability and request for comments on the environmental assessment was published in the Pacific Daily News, March 7-9, 2002, the Saipan Tribune, March 5-7, 2002, and the Honolulu Advertiser, March 1, 2002. We received no comments on the environmental assessment.

We are advising the public of APHIS' record of decision and finding of no significant impact regarding the issuance of a permit for the field release of C. connexa, without conditions, for use as a biological control agent to reduce the severity of Siam weed infestations.

The environmental assessment and finding of no significant impact may be viewed on the Internet at http://www.aphis.usda.gov/ppq/ by accessing “Document/Forms Retrieval System,” then “3-Permits-Pests,” and document number 0031. You may request copies of the environmental assessment and finding of no significant impact by calling or writing to the person listed under FOR FURTHER INFORMATION CONTACT. Please refer to the title of the environmental assessment when requesting copies. The environmental assessment and finding of no significant impact are also available for review in our reading room (information on the location and hours of the reading room is listed under the heading ADDRESSES at the beginning of this notice).

The environmental assessment and finding of no significant impact have been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 19th day of July 2002.
Peter Fernandez,
Acting Administrator, Animal and Plant Health Inspection Service.

[FR Doc. 02-18846 Filed 7-24-02; 8:45 am]

BILLING CODE 3410-34-P